DEPARTMENT OF COMMERCE

Foreign-Trade Zones Board

[Order No. 1132]

Grant of Authority for Subzone Status; Coastal Fuels Marketing, Inc. (Petroleum Products Storage Facility), Port Everglades, Florida

Pursuant to its authority under the Foreign-Trade Zones Act of June 18, 1934, as amended (19 U.S.C. 81a-81u), the Foreign-Trade Zones Board (the Board) adopts the following Order:

Whereas, by an Act of Congress approved June 18, 1934, an Act “To provide for the establishment * * * of foreign-trade zones in ports of entry of the United States, to expedite and encourage foreign commerce, and for other purposes,” as amended (19 U.S.C. 81a-81u) (the Act), the Foreign-Trade Zones Board (the Board) is authorized to grant to qualified corporations the privilege of establishing foreign-trade zones in or adjacent to U.S. Customs ports of entry;

Whereas, the Board's regulations (15 CFR part 400) provide for the establishment of special-purpose subzones when existing zone facilities cannot serve the specific use involved;

Whereas, an application from the Port Everglades Department of Broward County, Florida, grantee of FTZ 25, for authority to establish special-purpose subzone status at the petroleum products storage facility of Coastal Fuels Marketing, Inc. (Coastal) in Port Everglades, Florida, was filed by the Board on March 15, 2000, and notice inviting public comment was given in the Federal Register (FTZ Docket 9-2000, 65 FR 15304, 3/22/00); and,

Whereas, the Board adopts the findings and recommendations of the examiner's report, and finds that the requirements of the FTZ Act and Board's regulations are satisfied, and that approval of the application is in the public interest;

Now, Therefore, the Board hereby authorizes the establishment of a subzone (Subzone 25C) at the petroleum products storage facility of Coastal Fuels Marketing Inc., in Port Everglades, Florida, at the location described in the application, subject to the FTZ Act and the Board's regulations, including § 400.28.

Signed at Washington, DC, this 28th day of November 2000.
Troy H. Cribb,
Assistant Secretary of Commerce for Import Administration, Alternate Chairman, Foreign-Trade Zones Board.

[FR Doc. 00-31495 Filed 12-11-00; 8:45 am]

BILLING CODE 3510-DS-P